DEPARTMENT OF THE INTERIOR

National Park Service

[NPS-WASO-NAGPRA-12627; PPWOCRADN0-PCU00RP14.R50000]

Notice of Intent To Repatriate a Cultural Item: U.S. Department of the Interior, Bureau of Indian Affairs, Washington, DC, and the Robert S. Peabody Museum of Archaeology, Phillips Academy, Andover, MA

AGENCY: National Park Service, Interior.

ACTION: Notice.

SUMMARY: The U.S. Department of the Interior, Bureau of Indian Affairs, and the Robert S. Peabody Museum of Archaeology, in consultation with the appropriate Indian tribes, have determined that the cultural item listed in this notice meets the definition of unassociated funerary object. Lineal descendants or representatives of any Indian tribe or Native Hawaiian organization not identified in this notice that wish to claim this cultural item should submit a written request to the U.S. Department of the Interior, Bureau of Indian Affairs. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the U.S. Department of the Interior, Bureau of Indian Affairs at the address in this notice by May 15, 2013.

ADDRESSES: Anna Pardo, Museum Program Manager/NAGPRA Coordinator, U.S. Department of the Interior, Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3005, of the intent to repatriate a cultural item under the control of the U.S. Department of the Interior, Bureau of Indian Affairs, Washington, DC, and in the physical custody of the Robert S. Peabody Museum of Archaeology, Phillips Academy, Andover, MA, that meets the definition of unassociated funerary object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Between 1934 and 1935, a cultural item was removed from the Snaketown site (AZ U:13:1) on the Gila River Indian Reservation, in Pinal County, AZ, during legally authorized excavations conducted by the Gila Pueblo Foundation. In 1940, this item was donated to the Robert S. Peabody Museum of Archaeology as part of a larger collection donation. The one unassociated funerary object is a projectile point which was found in association with a human burial, but the human remains are not present in the collections. Archeological evidence places the Snaketown site within the archeologically-defined Hohokam tradition. The occupation of the Snaketown site spans the years from circa A.D. 500 or 700 to 1100 or 1150.

Continuities of mortuary practices, ethnographic materials, and technology indicate affiliation of Hohokam settlements with present-day O'odham (Piman) and Puebloan cultures. An August 2000 cultural affiliation study, submitted by the Gila River Indian Community of the Gila River Indian Reservation, addresses continuities between the Hohokam and the O'odham tribes.

Determinations Made by the U.S. Department of the Interior, Bureau of Indian Affairs, Washington, DC, and the Robert S. Peabody Museum of Archaeology, Phillips Academy, Andover, MA

Officials of the Bureau of Indian Affairs and the Robert S. Peabody Museum of Archaeology have determined that:

• Pursuant to 25 U.S.C. 3001(3)(B), the one cultural item described above is reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary object and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico (hereafter referred to as “The Tribes”).

Additional Requestors and Disposition

Lineal descendants or representatives of any Indian tribe or Native Hawaiian organization not identified in this notice that wish to claim this cultural item should submit a written request with information in support of the claim to Anna Pardo, Museum Program Manager/NAGPRA Coordinator, U.S. Department of the Interior, Indian Affairs, 12220 Sunrise Valley Drive, Room 6084, Reston, VA 20191, telephone (703) 390-6343, email Anna.Pardo@bia.gov, by May 15, 2013. After that date, if no additional claimants have come forward, transfer of control of the unassociated funerary object to The Tribes may proceed.

The Bureau of Indian Affairs is responsible for notifying The Tribes that this notice has been published.

Dated: March 21, 2013.
Sherry Hutt,
Manager, National NAGPRA Program.

[FR Doc. 2013-08772 Filed 4-12-13; 8:45 am]

BILLING CODE 4312-50-P